DEPARTMENT OF TRANSPORTATION

Federal Aviation Administration

Notice of Opportunity for Public Comment on Surplus Property Release at Madras Municipal Airport, Madras, Oregon

AGENCY: Federal Aviation Administration (FAA), DOT.

ACTION: Request for public comments.

SUMMARY: Under the provisions of Title 49, U.S.C. Section 47153(d), notice is being given that the FAA is considering a request from Madras Municipal Airport, in Madras, OR to waive the surplus property requirements for approximately 5.22 acres of airport property located at Madras Municipal Airport, in Madras, OR.

The subject property is currently under lease with Wilbur-Ellis Company. This property serves Wilbur Ellis Company and their Agribusiness Division well because of its close proximity to both the rail system (City rail spur and Burlington Northern Santa Fe main track) and Highway 97/26. From this location, they import, export and distribute various agricultural commodities throughout Central Oregon. This release will enable the City of Madras to complete a promise made in 1995 whereby the City agreed to diligently and aggressively pursue the approval of the United States of America to sell the 5.22 acres to Wilbur Ellis Company, if Wilbur Ellis were willing to relocate their company to the Madras community thereby providing much needed jobs. The estimated net proceeds from the subject property will be applied toward the City's current five-year airport capital improvement plan or to relocating a hangar at the airport that is called out to be moved in the airport master plan. It has been determined through study and master planning that the subject parcels will not be needed for aeronautical purposes.

DATES: Effective Date: Comments must be received on or before December 9, 2016.

ADDRESSES: Send comments on this document to Ms. Cayla Morgan, at the Federal Aviation Administration, 1601 Lind Avenue SW., Renton, Washington 98057, Telephone 425-227-2653.

FOR FURTHER INFORMATION CONTACT: Documents are available for review by appointment by contacting Ms. Cayla Morgan, Telephone 425-227-2653 or by contacting Mr. Jason Ritchie, Federal Aviation Administration, 1601 Lind Avenue SW., Renton, Washington, 425-227-2658.

Issued in Renton, Washington, on October 28, 2016.
Jason Ritchie,
Acting Manager, Airports Division, Northwest Mountain Region.

[FR Doc. 2016-27095 Filed 11-8-16; 8:45 am]

BILLING CODE 4910-13-P